DEPARTMENT OF COMMERCE

National Oceanic and Atmospheric Administration

RIN 0648-XE404

Marine Mammals; File No. 18978

AGENCY: National Marine Fisheries Service (NMFS), National Oceanic and Atmospheric Administration (NOAA), Commerce.

ACTION: Notice; receipt of application.

SUMMARY: Notice is hereby given that Pam Miller, Alaska Community Action on Toxics, 505 West Northern Lights Blvd., Suite 205, Anchorage, AK 99503, has applied in due form for a permit to receive, import, and export specimens of marine mammals for scientific research.

DATES: Written, telefaxed, or email comments must be received on or before April 7, 2016.

ADDRESSES: The application and related documents are available for review by selecting “Records Open for Public Comment” from the “Features” box on the Applications and Permits for Protected Species (APPS) home page, https://apps.nmfs.noaa.gov, and then selecting File No. 18978 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 18978 in the subject line of the email comment.

Those individuals requesting a public hearing should submit a written request to the Chief, Permits and Conservation Division at the address listed above. The request should set forth the specific reasons why a hearing on this application would be appropriate.

FOR FURTHER INFORMATION CONTACT: Brendan Hurley or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant proposes to measure contaminant levels in subsistence-hunted Arctic marine mammals to determine marine mammal exposure to polybrominated diphenyl ethers and perfluorinated compounds. The proposed research will contribute to information about the levels of emerging contaminants in marine mammals. Researchers will work with Yupik households and local hunters to obtain samples from a maximum of 8 animals per year from minke whale (Balaenoptera acutorostrata); ringed seal (Pusa hispida); bearded seal (Erignathus barbatus); and ribbon seal (Histriophoca fasciata). A maximum of 9 animals per year are requested from bowhead whale (Balaena mysticetus) and spotted seal (Phoca largha). Samples would include organs, meat, rendered oils, and blubber. No non-target species will be affected. Samples will come from animals subsistence hunted on St Lawrence Island, AK. The requested permit period is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 2, 2016.
Julia Harrison,
Chief, Permits and Conservation Division, Office of Protected Resources, National Marine Fisheries Service.

[FR Doc. 2016-05080 Filed 3-7-16; 8:45 am]

BILLING CODE 3510-22-P